DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below is intended to be used, is being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Room 4211, U.S. Department of Commerce, 14th Street and Constitution Avenue, N.W., Washington, D.C.

Docket Number: 00-023. Applicant: Yeshiva University, Albert Einstein College of Medicine, 1300 Morris Park Avenue, Bronx, NY 10461. Instrument: Q Pix Colony Picker. Manufacturer: Genetix Ltd., United Kingdom. Intended Use: The instrument is intended to be used for as a robotic instrument for picking clones from sub clone libraries made from BACs, which have been selected for sequencing. Application accepted by Commissioner of Customs: July 26, 2000.

Docket Number: 00-026. Applicant: The University of Texas at San Antonio, Division of Life Sciences, Cajal Center for Neuroscience, 6900 North Loop 1604 West, San Antonio, TX 78249-0662. Instrument: Electron Microscope, Model JEM-1230. Manufacturer: JEOL Ltd., Japan. Intended Use: The instrument is intended to be used to study ultrastructural features of biological research specimens from experimental animals, cultured cells and viruses. The research projects include but are not limited to:

1. Examination of the synapses on dendrites of granule neurons.

2. Study of synaptogenesis as a result of high frequency granule cell activity.

3. Ultrastructural analysis of mosquito cells infected with a neurotrophic mosquito-born alpha virus.

4. Study of the axonal trajectories of interneurons and their targets.

5. Structural studies examining the uptake of angiotensin II by vascular smooth muscle cells.

6. Characterization of an in vitro model of central nervous system myelination.

7. Examination of the deposition and expression of the protein BIH-H3 and

8. Study of the mechanisms of potentiating neurotransmitters in striatal degeneration by examining ultrastructure.

Application accepted by Commissioner of Customs: August 3, 2000.

Frank W. Creel,
Director, Statutory Import Programs Staff.

[FR Doc. 00-20832 Filed 8-15-00; 8:45 am]

BILLING CODE 3510-DS-P